Title 3—

The President

Proclamation 8613 of December 6, 2010

50th Anniversary of the Arctic National Wildlife Refuge

By the President of the United States of America

A Proclamation

Our public lands represent the American spirit and reflect our history, culture, and deep respect for wild and beautiful places. As we celebrate the 50th anniversary of the establishment of the Arctic National Wildlife Refuge, we remember that this breathtaking terrain holds great significance to our Nation. Stretching from the plains of the Arctic Sea to the soaring mountains of the Brooks Range and lush boreal forests of the Alaskan lowlands, the rugged splendor of the Arctic Refuge is among the most profoundly beautiful places in America.

Following the efforts of visionary conservationists, the Arctic National Wildlife Range was created in 1960 by President Dwight D. Eisenhower “for the purpose of preserving unique wildlife, wilderness, and recreational values.” In 1980, under President Jimmy Carter, the area was renamed the Arctic National Wildlife Refuge and expanded to further recognize and protect the stunning variety of wildlife in the area. For 50 years, the Fish and Wildlife Service of the Department of the Interior has managed the Arctic National Wildlife Refuge, carefully balancing the needs of wildlife and their vital habitats.

In the decades since its establishment, the Arctic National Wildlife Refuge has continued to be one of our Nation’s most pristine and cherished areas. In the decades to come, it should remain a place where wildlife populations, from roaming herds of caribou to grizzly bears and wolf packs, continue to thrive. The 19.6 million acres that comprise the Arctic Refuge are also home to Native American tribes, including the Inupiat and Gwich’in, and the resources of the Refuge sustain these populations and protect their indigenous traditions and way of life.

Today, the Arctic National Wildlife Refuge remains distinct in the American landscape, and we must remain committed to making responsible choices and ensuring the continued conservation of these wild lands.

Our Nation’s great outdoors, whether our stunning national parks and refuges or cherished green spaces in our local communities, are truly a hallmark of our American identity. In commemorating five decades of protection and conservation of the Arctic National Wildlife Refuge, I encourage all Americans to recognize the beauty and diversity of all of America’s open spaces. We are all stewards and trustees of this land, and we must ensure that our treasured wilderness and other natural areas will be part of our national heritage for generations to come.

NOW, THEREFORE, I, BARACK OBAMA, President of the United States of America, by virtue of the authority vested in me by the Constitution and the laws of the United States, do hereby proclaim December 6, 2010, as the 50th Anniversary of the Arctic National Wildlife Refuge. I call upon all Americans to observe this anniversary with appropriate programs, ceremonies, and activities.

IN WITNESS WHEREOF, I have hereunto set my hand this sixth day of December, in the year of our Lord two thousand ten, and of the Independence of the United States of America the two hundred and thirty-fifth.

[FR Doc. 2010-31127

Filed 12-8-10; 8:45 am]

Billing code 3195-W1-P